DEPARTMENT OF HEALTH AND HUMAN SERVICES

Health Resources and Services Administration

Agency Information Collection Activities: Proposed Collection; Public Comment Request; Information Collection Request Title: Application and Other Forms Used by the National Health Service Corps Scholarship Program, the National Health Service Corps Students To Service Loan Repayment Program, and the Native Hawaiian Health Scholarship Program—OMB No. 0915-0146—Revision

AGENCY: Health Resources and Services Administration (HRSA), Department of Health and Human Services.

ACTION: Notice.

SUMMARY: In compliance with the requirement of the Paperwork Reduction Act of 1995 for opportunity for public comment on proposed data collection projects, HRSA announces plans to submit an Information Collection Request (ICR), described below, to the Office of Management and Budget (OMB). Prior to submitting the ICR to OMB, HRSA seeks comments from the public regarding the burden estimate, below, or any other aspect of the ICR.

DATES: Comments on this ICR should be received no later than October 6, 2025.

ADDRESSES: Submit your comments to paperwork@hrsa.gov or mail the HRSA Information Collection Clearance Officer, Room 14NWH04, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Application and Other Forms Used by the National Health Service Corps (NHSC) Scholarship Program, the NHSC Students to Service Loan Repayment Program, and the Native Hawaiian Health Scholarship Program, OMB No. 0915-0146-Revision.

Abstract: Administered by HRSA's Bureau of Health Workforce, the NHSC Scholarship Program (SP), the NHSC Students to Service Loan Repayment Program (S2S LRP), and the Native Hawaiian Health Scholarship Program (NHHSP) provide scholarships or loan repayment to qualified students who are pursuing primary care health professions education and training. In return, students agree to provide primary health care services in underserved communities located in federally designated health professional shortage areas once they are fully trained and licensed health professionals. Awards are made to applicants who demonstrate the greatest potential for successful completion of their education and training as well as commitment to provide primary health care services to communities of greatest need. The information from program applications, forms, and supporting documentation is used to select the best qualified candidates for these competitive awards, and to monitor program participants' enrollment in school, postgraduate training, and compliance with program requirements.

Although some program forms vary from program to program (see program-specific burden charts below), required forms generally include a program application, academic and non-academic letters of recommendation, authorization to release information, and the acceptance/verification of good academic standing report. The NHSC SP and the NHSC S2S LRP have added two forms for this information collection request, which include a Proof of Citizenship document and an Essay. Additionally, the process used to monitor program participants while in school via the Enrollment Verification Form has been modernized and renamed as In-School Verification, which will allow program participants to verify their enrollment status electronically, bringing efficiency to the process. The NHHSP is not seeking to change or add any forms or documentation.

Need and Proposed Use of the Information: The NHSC SP, S2S LRP, and NHHSP applications, forms, and supporting documentation are used to collect necessary information from applicants and schools that enable HRSA to make selection determinations for the competitive awards and monitor compliance (via training programs and sites) with program requirements.

Likely Respondents: Qualified students who are pursuing education and training in primary care health professions and are interested in working in health professional shortage areas, schools at which such students are enrolled, and post graduate training programs/sites which such students will attend.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

NHSC SP Application
Form name | Number of respondents | Number of responses per respondent | Total responses | Average burden per response (in hours) | Total burden hours
NHSC Scholarship Program Application | 3,100 | 1 | 3,100 | 2.00 | 6,200.00
Letters of Recommendation | 3,100 | 2 | 6,200 | 1.00 | 6,200.00
Proof of Citizenship | 3,100 | 1 | 3,100 | 0.20 | 620.00
Essay | 3,100 | 1 | 3,100 | 1.00 | 3,100.00
Authorization to Release Information | 3,100 | 1 | 3,100 | 0.10 | 310.00
Acceptance/Verification of Good Standing Report | 3,100 | 1 | 3,100 | 0.25 | 775.00
Verification of Disadvantaged Background Status | 615 | 1 | 615 | 0.25 | 153.75
Total | * 3,100 |  | 22,315 |  | 17,358.75
* Certain documents are submitted by a subset of respondents consistent with program requirements.

NHSC Awardees/Schools/Post Graduate Training Programs/Sites
Form name | Number of respondents | Number of responses per respondent | Total responses | Average burden per response (in hours) | Total burden hours
Data Collection Worksheet | 550 | 1 | 550 | 1.00 | 550.00
Post Graduate Training Verification Form | 383 | 1 | 383 | 0.50 | 191.50
In-School Verification | 1,275 | 4 | 5,100 | 0.10 | 510.00
Total | * 1,275 |  | 6,033 |  | 1,251.50
* Please note that the same group of respondents may complete each form as necessary.

NHSC S2S LRP Application
Form name | Number of respondents | Number of responses per respondent | Total responses | Average burden per response (in hours) | Total burden hours
NHSC Students to Service LRP Application | 348 | 1 | 348 | 2.00 | 696.00
Proof of Citizenship | 348 | 1 | 348 | 0.10 | 34.80
Essay | 348 | 1 | 348 | 1.00 | 348.00
Letters of Recommendation | 348 | 1 | 348 | 2.00 | 696.00
Authorization to Release Information | 348 | 1 | 348 | 0.10 | 34.80
Acceptance/Verification of Good Standing Report | 348 | 1 | 348 | 0.25 | 87.00
Verification of Disadvantaged Background Status | 115 | 1 | 115 | 0.25 | 28.75
Total | * 348 |  | 2,203 |  | 1,925.35
* Certain documents are submitted by a subset of respondents consistent with program requirements.

NHHSP Application
Form name | Number of respondents | Number of responses per respondent | Total responses | Average burden per response (in hours) | Total burden hours
NHHSP Program Application | 200 | 1 | 200 | 2.00 | 400.00
Letters of Recommendation | 400 | 1 | 400 | 0.25 | 100.00
Authorization to Release Information | 200 | 1 | 200 | 0.25 | 50.00
Acceptance/Verification of Good Standing Report | 40 | 1 | 40 | 0.25 | 10.00
Scholar Enrollment Verification Form | 40 | 4 | 160 | 0.50 | 80.00
Change in Program Curriculum Form | 40 | 1 | 40 | 0.25 | 10.00
NHHSP Graduation Documentation Form | 40 | 1 | 40 | 0.25 | 10.00
Total | * 200 |  | 1,080 |  | 660.00
* Certain documents are submitted by a subset of respondents consistent with program requirements.

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-14791 Filed 8-4-25; 8:45 am]

BILLING CODE 4165-15-P